DEPARTMENT OF TRANSPORTATION

Office of the Secretary

Notice of Applications for Certificates of Public Convenience and Necessity and Foreign Air Carrier Permits Filed Under Subpart B (Formerly Subpart Q) During the Week Ending May 28, 2011

The following Applications for Certificates of Public Convenience and Necessity and Foreign Air Carrier Permits were filed under Subpart B (formerly Subpart Q) of the Department of Transportation's Procedural Regulations (See 14 CFR 301.201 et seq.). The due date for Answers, Conforming Applications, or Motions To Modify Scope are set forth below for each application. Following the Answer period DOT may process the application by expedited procedures. Such procedures may consist of the adoption of a show-cause order, a tentative order, or in appropriate cases a final order without further proceedings.

Docket Number: DOT-OST-2011-0102.

Date Filed: May 27, 2011.

Due Date for Answers, Conforming Applications, or Motion To Modify Scope: June 17, 2011.

Description: Application of FLY DOM N.V. d/b/a JET BUDGET (“JET BUDGET”) requesting a foreign air carrier permit and related exemption that would enable it to provide charter foreign air transportation of persons, property, cargo and mail between any point or points in the territory of the Netherlands Antilles and any point or points in the territory of the United States; and between any point or points in the territory of the United States and any point or points in a third country or countries, provided that, except with respect to cargo charters, such service constitutes part of a continuous operation, with or without a change of aircraft, that includes service to the Netherlands Antilles for the purpose of carrying local traffic between the Netherlands Antilles and the United States.

Renee V. Wright,
Program Manager, Docket Operations, Federal Register Liaison.

[FR Doc. 2011-15203 Filed 6-17-11; 8:45 am]

BILLING CODE 4910-9X-P